DEPARTMENT OF COMMERCE

National Oceanic and Atmospheric Administration

[I.D. 071300B]

New England Fishery Management Council; Public Meetings

AGENCY: National Marine Fisheries Service (NMFS), National Oceanic and Atmospheric Administration (NOAA), Commerce.

ACTION: Notice of public meetings.

SUMMARY: The New England Fishery Management Council (Council) is scheduling public meetings of its Scallop Committee and Scallop Advisory Panel in August and September, 2000 to consider actions affecting New England fisheries in the exclusive economic zone. Recommendations from these groups will be brought to the full Council for formal consideration and action, if appropriate.

DATES: The meetings will held between Friday, August 4, 2000 and Tuesday, September 19, 2000. See SUPPLEMENTARY INFORMATION for specific dates and times.

ADDRESSES: The meetings will be held in Mansfield, MA and Warwick, RI. See SUPPLEMENTARY INFORMATION for specific locations.

FOR FURTHER INFORMATION CONTACT: Paul J. Howard, Executive Director, New England Fishery Management Council; (978) 465-0492.

SUPPLEMENTARY INFORMATION:

Meeting Dates and Agendas

Friday, August 4, 2000, at 10:00 a.m. —Scallop Committee Meeting

Location: Holiday Inn, 31 Hampshire Street, Mansfield, MA 02048; telephone: (508) 339-2200.

The Scallop Committee will evaluate technical advice from the Scallop Plan Development Team (PDT) on areas to close during the 2000 fishing year to conserve small scallops. If the committee recommends action, the management measures could take effect in late 2000.

The Scallop Committee also will continue development of management alternatives for Amendment 10 to the Scallop Fishery Management Plan (FMP). Issues to be discussed include, but are not limited to measures that would close areas with concentrations of small scallops through a notice action, mechanisms to fund monitoring and research activities in support of scallop area management, and other issues related to an industry proposal presented by the Fishermen's Survival Fund. The committee will re-consider adding additional area management alternatives to Amendment 10.

Monday, September 18, 2000, at 10:00 a.m. and Tuesday, September 19, 2000 at 8:30 a.m.—Joint Scallop Committee and Scallop Advisory Panel Meeting.

Location: Radisson Hotel, 2081 Post Road, Warwick, RI 02886; telephone: (401) 739-3000.

The Scallop PDT will present the 2000 Stock Assessment and Fishery Evaluation (SAFE) Report and recommend management adjustments for the 2001 fishing year to meet the FMP objectives. The advisors and oversight committee will evaluate these recommendations in preparation for a Council discussion on Framework Adjustment 14 at the September 26-28, 2000 Council meeting.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: July 14, 2000.
Richard W. Surdi,
Acting Director, Office of Sustainable Fisheries, National Marine Fisheries Service.

[FR Doc. 00-18261 Filed 7-18-00; 8:45 am]

BILLING CODE 3510-22-F